DEPARTMENT OF DEFENSE

Department of the Air Force

Notice of Record of Decision for the Programmatic Environmental Impact Statement Master Plan and Installation Development at Nellis Air Force Base, Nevada

AGENCY: Department of the Air Force.

ACTION: Notice of record of decision.

SUMMARY: On December 18, 2025, the Department of the Air Force (DAF) signed the Record of Decision (ROD) for the Programmatic Environmental Impact Statement (PEIS) Master Plan and Installation Development at Nellis Air Force Base, Nevada.

FOR FURTHER INFORMATION CONTACT: Mr. Daniel Fisher, NEPA Project Manager, by email at daniel.fisher.26@us.af.mil or by phone at 210-925-2738.

SUPPLEMENTARY INFORMATION: The DAF has decided implement the Proposed Action (Alternative 1) to designate 2,000 acres on the east side of Nellis Air Force Base for future development to support broad decision-making and provide the foundation for the efficient review of project-specific, tiered implementing actions.

The DAF decision documented in the ROD was based on matters discussed in the Final EIS, inputs from the public and regulatory agencies, and other relevant factors. The Final EIS was made available to the public on January 8, 2026 through the project website (https://nellisafbeis.com/), and a Notice of Availability was published in the Federal Register (Volume 91, Number 11, Page 2131) on January 16, 2026.

Authority: 42 U.S.C. 4321, et seq. and Department of Defense National Environmental Policy Act Implementing Procedures.

Crystle C. Poge,
Air Force Federal Register Liaison Officer.

[FR Doc. 2026-01765 Filed 1-28-26; 8:45 am]

BILLING CODE 3911-44-P